DEPARTMENT OF HEALTH AND HUMAN SERVICES

National Institutes of Health

Center for Scientific Review; Amended Notice of Meeting

Notice is hereby given of a change in the meeting of the Medical Imaging Study Section, October 5, 2009, 8 a.m. to October 5, 2009, 4 p.m., Four Points by Sheraton Washington DC Downtown, 1201 K Street, NW., Washington, DC, 20005 which was published in the Federal Register on September 16, 2009, 74 FR 47589-47592.

The meeting will be held October 4, 2009, 7 p.m. to October 5, 2009, 5 p.m. The meeting location remains the same. The meeting is closed to the public.

Dated: September 18, 2009.
Jennifer Spaeth,
Director, Office of Federal Advisory Committee Policy.

[FR Doc. E9-23068 Filed 9-24-09; 8:45 am]

BILLING CODE 4140-01-M